OFFICE OF PERSONNEL MANAGEMENT

Submission for Review: 3206-0254, Request for Case Review for Enhanced Disability Annuity Benefit, RI 20-123

AGENCY: U.S. Office of Personnel Management.

ACTION: 30-Day notice and request for comments.

SUMMARY: Office of Personnel Management (OPM) offers the general public and other Federal agencies the opportunity to comment on an expiring information collection, Request for Case Review for Enhanced Disability Annuity Benefit, RI 20-123.

DATES: Comments are encouraged and will be accepted until December 26, 2025.

ADDRESSES: Written comments and recommendations for the proposed information collection should be sent within 30 days of publication of this notice to http://www.reginfo.gov/public/do/PRAMain. Find this particular information collection by selecting “Currently under Review—Open for Public Comments” or by using the search function.

FOR FURTHER INFORMATION CONTACT: A copy of this information collection, with applicable supporting documentation may be obtained by contacting the Retirement Services Publications Team, Office of Personnel Management, 1900 E Street NW, Room 3316-BD, Washington, DC 20415, Attention: Cyrus S. Benson, or sent via electronic mail to RSPublicationsTeam@opm.gov.

SUPPLEMENTARY INFORMATION: The Office of Personnel Management, in accordance with the Paperwork Reduction Act of 1995 (PRA) (44 U.S.C. 3506(c)(2)(A)), provides the public with an opportunity to comment on proposed, revised, and continuing collections of information. This helps OPM assess the impact of its information collection requirements and minimize the public's reporting burden. It also helps the public understand OPM's information collection requirements and provide the requested data in the desired format. OPM is soliciting comments on the expiring information collection request (ICR) that is described below. OPM is especially interested in public comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Please note that written comments received in response to this notice will be considered public records.

RI 20-123 is used by retirees who have retired under disability annuity provisions and who have performed service as law enforcement officers, firefighters, nuclear materials couriers, air traffic controllers, Congressional employees, Members of Congress, Capitol and Supreme Court police, or custom and border protection officers (and their survivors or beneficiaries) to request that Retirement Operations review the computations of the retiree's disability annuity. Upon receipt of this form, OPM will ensure it has computed the disability annuity in accordance with applicable statutes. These provisions require OPM to compute the disability annuities of affected retirees using the higher annuity amount computed under the disability annuity computation provisions or the enhanced immediate retirement computation provisions specifically applicable to these special employee populations. When OPM receives form RI 20-123 from an annuitant, survivor, or beneficiary, it will take action to review the retiree's annuity computation and, if the retiree is entitled to an increased benefit, or if a survivor or beneficiary is entitled to amounts accrued but unpaid to a deceased retiree, OPM will process accordingly.

Analysis

Agency: Retirement Operations, Retirement Services, Office of Personnel Management.

Title: Request for Case Review for Enhanced Disability Annuity Benefit.

OMB Number: 3206-0254.

Frequency: On occasion.

Affected Public: Individuals or Households.

Number of Respondents: 100.

Estimated Time per Respondent: 5 minutes.

Total Burden Hours: 8.

U.S. Office of Personnel Management.
Alexys Stanley,
Federal Register Liaison.

[FR Doc. 2025-21208 Filed 11-25-25; 8:45 am]

BILLING CODE 6325-38-P